DEPARTMENT OF THE INTERIOR

Fish and Wildlife Service

[FWS-HQ-NWRS-2022-N023; FF09R81000; OMB Control Number 1018-New]

Agency Information Collection Activities; Submission to the Office of Management and Budget for Review and Approval; U.S. Fish and Wildlife Service Agreements With Friends Organizations

AGENCY: Fish and Wildlife Service, Interior.

ACTION: Notice of information collection; request for comment.

SUMMARY: In accordance with the Paperwork Reduction Act of 1995, we, the U.S. Fish and Wildlife Service (Service), are proposing a new information collection in use without an Office of Management and Budget (OMB) control number.

DATES: Interested persons are invited to submit comments on or before July 1, 2022.

ADDRESSES: Written comments and recommendations for the proposed information collection should be sent within 30 days of publication of this notice to www.reginfo.gov/public/do/PRAMain. Find this particular information collection by selecting “Currently under Review—Open for Public Comments” or by using the search function. Please provide a copy of your comments to the Service Information Collection Clearance Officer, U.S. Fish and Wildlife Service, MS: PRB (JAO/3W), 5275 Leesburg Pike, Falls Church, VA 22041-3803 (mail); or by email to Info_Coll@fws.gov. Please reference “1018-Friends” in the subject line of your comments.

FOR FURTHER INFORMATION CONTACT: Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act (PRA, 44 U.S.C. 3501 et seq.) and its implementing regulations at 5 CFR 1320, all information collections require approval under the PRA. We may not conduct or sponsor and you are not required to respond to a collection of information unless it displays a currently valid OMB control number.

On November 9, 2020, we published in the Federal Register (85 FR 71354) a notice of our intent to request that OMB approve this information collection. In that notice, we solicited comments for 60 days, ending on January 8, 2021. We received 59 comments in response to the questions posed in the Federal Register notice from the following:

Name | Position | Organization | Date received
Christensen, Alan | Past President | Friends of Tualatin River NWR | 1/4/21
Benton, Angela | Board Chair | Friends of Haystack NWR | 1/8/21
LaBrake, Aryn | Executive Director | Friends of Valle del Oro NWR | 1/8/21
VanHeel, Carol | Treasurer and Membership Chair | Friends of Sherburne NWR | 1/8/21
Trainor, Cece | Board Member | Friends of Eastern Neck NWR | 1/8/21
Craig, Cecilia | Treasurer | San Francisco Bay Wildlife Society/Friends of San Francisco Bay NWR Complex | 1/8/21
Hart, Cheryl | Board Member | Friends of Tualatin River NWR | 1/8/21
Crumley, Chloe | Board Member | Friends of Balcones NWR | 1/8/21
Stephens, Christena | Director | Friends of High Plains Refuge Complex | 1/7/21
Puskar, Dan | President and CEO | Public Lands Alliance | 1/8/21
Price, Daniel | Not Provided | Friends of Little Pend Oreille NWR | 1/8/21
Bell, Dave | Vice President | Friends of Balcones NWR | 1/8/21
Raskin, David | President | Friends of Alaska NWR | 1/8/21
Anderson, Debbie | Vice President | Friends of Hakalau Forest NWR | 12/29/20
Andersen, Ellen | President | Friends of the National Conservation Training Center | 1/5/21
Draper, Harold | President | Friends of Loess Bluffs NWR | 1/7/21
Lockridge, Jack | President | Friends of Bosque Del Apache NWR | 1/8/21
Johnson, James | Not Provided | Friends of Neal Smith NWR | 12/20/20
Larson, Jan and Rocky | Private Citizens |  | 1/7/21
Mayo, Jan | Volunteer | Friends of Hakalau Forest NWR | 12/24/20
James, Janet | President | Friends of Mid-Columbia River NWR | 1/7/21
Friday, J.B | President | Friends of Hakalau Forest NWR | 12/27/20
Public, Jean | Private Citizen |  | 11/9/20
Keatinge, Jennifer | Board of Directors | Friends of Hart Mountain National Antelope Refuge | 1/9/21
Edwards, Jim | President | Sandhill Prairies Refuge Association | 1/2/21
Patterson, Joan Brouwer, Caroline | Not Provided Not Provided | Coalition of Refuge Friends and Advocates National Wildlife Refuge Association | 1/6/21
Van Aken, Joann | Executive Director | International Wildlife Refuge Alliance | 1/7/21
Van Aken, Joann (2nd Comment) | Executive Director | International Wildlife Refuge Alliance | 1/8/21
d'Alessio, Jon | Treasurer | Friends of Midway Atoll NWR | 1/7/21
Cadoret, Katelyn | Not Provided | Friends of Mashpee NWR | 1/7/21
Bowman, Kathy | Private Citizen |  | 1/5/21
Rhodes, Kathy | Chair—Board of Directors | Friends And Volunteers Of Refuges—Florida Keys | 1/8/21
Cheroutes, Kip | Board Member | Friends of the Front Range Wildlife Refuges | 1/8/21
Gould, Laurel | Treasurer | Friends of Great Swamp NWR | 1/8/21
Culp, Jr., Lloyd | President | Friends of Bon Secour NWR | 1/8/21
Springer, Marie (original and followup) | Private Citizen | John Jay College of Criminal Justice, City University of New York | 12/23/20 1/5/21
Cole, Mark | President | Friends of Leadville Fish Hatchery | 1/8/21
Nelson, Morton | Treasurer | Friends of Loess Bluffs NWR (Original and Duplicate of 11/11/2020 comment) | 11/11/20
Krueger, Myrna | President | Friends of Sherburne NWR | 1/8/21
Gehlhausen, Nancy | Private Citizen |  | 12/25/20
Feger, Naomi | Board of Directors | Friends of San Pablo Bay NWR | 1/8/21
Kupchak, Patty | Private Citizen |  | 12/18/20
Goodwin, Paula | President | Friends of Assabet River NWR | 1/8/21
Hall, Peg | President | Friends of Lower Suwannee & Cedar Key NWRs | 1/6/21
Millan, Phyllis | Board Member | Friends of Tualatin River NWR | 1/8/21
Petzel, Robert | President | Minnesota Valley Refuge Friends | 1/8/21
Crouch, Sally | Board Secretary | Muscatatuck Wildlife Society | 1/7/21
Slagle, Sharon | Secretary | Friends of the Wildlife Corridor | 11/18/20
Kenyon, Simon | President | Friends of Eastern Neck NWR | 1/7/21
Kaufman, Stephanie | Not Provided | Friends of Patuxent Research Refuge | 1/8/21
Byers, Steven | Chair | Friends of Hackmatack NWR | 1/7/21
Chesney, Steven | Volunteer | Friends of Sherburne NWR | 1/8/21
Hatleberg, Steven | Board Representative | Friends of the National Conservation Training Center | 1/3/21
Hix, Sue | Volunteer | Friends of Sherburne NWR | 1/7/21
Wilder, Sue | Treasurer | Friends of Louisiana Wildlife Refuges | 1/7/21
Carlsten, Susan | President | Friends of Neosho National Fish Hatchery | 11/19/20
Considine, Tom | Board Member | Friends of John Heinz NWR | 1/8/21
Stoeller, Willem | Treasurer | Friends of Tualatin River NWR | 12/17/20
Binnewies, William | Past President | Shoreline Education for Awareness | 1/8/21

Below is a summary of the comments received in response to the questions indicated, and the agency response to those comments:

Whether or not the collection of information is necessary, including whether or not the information will have practical utility; whether there are any questions you felt were unnecessary.

Summary of comments: Respondents raised concerns that there was substantial overreach as far as what was being requested. Commenters felt that Friends are not subject to internal agency policy and direct administration and oversight by the Service. Specifically, many respondents mentioned that the Service's requests for Friends staff resumes was unnecessary and in conflict with Service policy not to become involved in Friends group administration and decision-making processes.

Agency Response: Based on the comments, we removed Friends staff resumes from the list of information we will collect, and substantially revised financial reporting requirements.

“The accuracy of our estimate of the burden for this collection of information”

Summary of comments: Overall, respondents said that the request as presented was vague, especially the proposed methodology by which the information would be collected. Furthermore, respondents expressed an overwhelming concern that this information collection as presented would be extremely burdensome and would hobble many smaller Friends groups, especially those without paid staff. Others stated that burden estimates were inaccurate, and that completion and submission of requested materials would take longer than the estimates projected.

Agency Response: The agency response was to overhaul the draft versions of the forms to significantly reduce the burden and simplify the reporting requirements, methodology, and instruments. In addition, the annual report, which will be a simple Microsoft form (or other electronic format to be substituted in the future, if need be), will be completable by either Service staff or a Friends group, and that decision will be made at the local level. This allows for the partnership to make the decision at the local level as to who should complete the form and requires strong communication within the partnership. Quarterly reviews will consist of Service staff verifying that board meetings include presentation of profit and loss sheets and updates on member and staff changes, if any, which should already be happening.

“Ways to enhance the quality, utility, and clarity of the information to be collected”

Summary of comments: Many responses focused on the frustration felt by the Friends groups due to the lack of clarity and specificity of what we were asking for, and the timeline with which it was being requested. Most respondents pointed out that the Internal Revenue Service (IRS) already requests much if not all the same documentation the Service might require, and that reporting should not be duplicative, excessive, or follow a different tax year than what the organization would be reporting to the IRS. Furthermore, many suggested that the Service institute a tiered system of requirements based on the size (i.e., annual budget) of the nonprofit required to do the reporting, as the majority of Friends groups are extremely small with an annual budget of $50,000 or less.

Agency Response: We acknowledge the difficulty of the responding to the information collection clearance before reviewing the policy on which it was based, because both activities were taking place concurrently. The Service was able receive comments on the draft policy, and addressed many of those concerns in the final policy. Based on comments from both the Federal Register notice and the policy review, we re-designed the reporting system to address these concerns.

“Ways to minimize the burden of the collection of information on respondents”

Summary of comments: Many respondents made it clear that since they already submit much of the information to the IRS, the Service should simply go online and download that information ourselves. Others suggested that we create a system by which Friends groups could report electronically to the fullest extent possible via a secure portal and/or provide a simple checklist. There was concern that it would be costly to implement a reporting system and a general sense that there was no value added to the Service collecting this data.

Agency Response: The Service created a simple and free to use Microsoft Forms reporting system and will use another free, electronic system if Microsoft Forms becomes unavailable in the future. While we do recognize that this information is all public and already reported to the IRS, we do feel that there is a value to collecting this data within the Service and being able to aggregate the data to show the benefit provided by Friends groups to the agency on a national scale.

In addition to publication of the Federal Register notice, we held public meetings in early 2021 to communicate to key stakeholders about the Information Collection Clearance process (i.e., our desire to hear from them, expected timelines, etc.) and provided time for questions from attendees.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Service enters into agreements and partnerships with nonprofit Friends groups to facilitate and formalize collaboration between the parties in support of mutual goals and objectives as authorized by:

• The Fish and Wildlife Act of 1956 (16 U.S.C. 742a-742j);

• The National Wildlife Refuge System Administration Act of 1966 (16 U.S.C. 668dd-ee), as amended;

• The Refuge Recreation Act of 1962 (16 U.S.C. 460k et seq.), as amended;

• The Anadromous Fish Conservation Act (16 U.S.C. 757a-757g), as amended;

• The Fish and Wildlife Coordination Act of 1934 (16 U.S.C. 661-667e), as amended;

• The National Wildlife Refuge System Volunteer and Community Partnership Enhancement Act of 1998 (16 U.S.C. 742f), as amended; and

• The National Fish Hatchery System Volunteer Act of 2006 (16 U.S.C. 760aa), as amended.

The Service utilizes a standardized agreement which describes the substantial involvement of both parties in mutually agreed-upon activities and ensures that both parties have a mutual understanding of their respective roles, responsibilities, rights, expectations, and requirements within the partnership. The agreement, pre-approved by the Department of the Interior (DOI) Office of the Solicitor, provides the suggested language common to most Service Friends partnerships. The content is based on DOI and Service policies, but the Friends and Service sites/programs may thoughtfully add and delete certain language to meet their varying partnership roles and responsibilities wherever Department and Service policies do not dictate otherwise. We also use a supplemental partnership agreement for use of Service property, which provides additional terms and responsibilities beyond the general terms of the partnership agreement and is required only for those Friends groups that use Service land, facilities, or equipment.

The partnership agreement and supplemental agreement are effective for 5 years, with four annual modification options during the 5-year period of performance. Each time the agreement is up for its 5-year renewal, the Refuge or Fish Hatchery Project Leader and the Friends President or Board will meet to review, modify, and sign the agreement as described above. To become effective, the Regional Director (or designee) must review, approve, and sign a new agreement every 5 years.

In addition to the partnership agreement and supplemental agreement, and subsequent renewals of the agreements, the Service collects the following information in conjunction with the administration of the Friends Program:

• Basic program information documentation, to include documents such as IRS determination letters recognizing an organization as tax exempt, submission of IRS Form 990-series forms, bylaws, articles of incorporation, etc.;

• Internal financial control documentation for the organization;

• Recordkeeping requirements documenting accountability for donations and expenditures;

• Assurance documentation that donations, revenues, and expenditures benefit the applicable refuge or hatchery;

• Annual performance reporting (donations, revenues, and expenditures) and number of memberships (if applicable); and

• Additional information that may be included as part of quarterly, annual, and in-depth program reviews.

• Information related to fundraising agreements for activities described in 212 FW 8.

Over the life of this clearance, the Service plans to develop a digital platform and process to collect information directly from Friends groups. Until that occurs, Friends groups will submit information through form and non-form responses.

The Service uses the information collected to establish efficient and effective partnerships and working relationships with nonprofit Friends organizations. The agreements provide a method for the Service to legally accept donations of funds and other contributions by people and organizations through partnerships with nonprofit (and non-Federal) Friends organizations.

Title of Collection: U.S. Fish and Wildlife Service Agreements with Friends Organizations.

OMB Control Number: 1018-New.

Form Number: None.

Type of Review: Existing collection in use without an OMB control number.

Respondents/Affected Public: Private sector (nonprofit organizations).

Total Estimated Number of Annual Respondents: 1,040.

Total Estimated Number of Annual Responses: 1,640.

Estimated Completion Time per Response: Estimated completion times vary from 30 minutes to 800 hours, depending on activity.

Total Estimated Number of Annual Burden Hours: 22,100.

Respondent's Obligation: Required to obtain or retain a benefit.

Frequency of Collection: On occasion for agreements and associated documentation requirements; quarterly and annually for performance reviews.

Total Estimated Annual Nonhour Burden Cost: None.

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2022-11727 Filed 5-31-22; 8:45 am]

BILLING CODE 4333-15-P